DEPARTMENT OF ENERGY

Western Area Power Administration

Notice of Intent To Conduct a Public Workshop for the Sacramento Area Voltage Support Project, CA

AGENCY: Western Area Power Administration, DOE.

ACTION: Notice of public workshop.

SUMMARY: In accordance with Section 102(2) of the National Environmental Policy Act (NEPA) of 1969, 42 U.S.C. 4332, Western Area Power Administration (Western) has announced its intention to prepare an Environmental Impact Statement (EIS) addressing the future voltage requirements of the Sacramento, California area. Per 40 CFR part 1501.5(b), Western is the lead agency to prepare the EIS. This notice announces Western's intention to hold a public workshop for the proposed project. The purpose of the workshop is to inform the public on the results of the public scoping process, discuss the progress on the EIS to date, and present specific project alternatives that Western wishes to consider in the EIS. The workshop is open to the general public and all Federal, State, local, and tribal agencies.

DATES: The workshop will be held on March 22, 2001, from 1 p.m. until 3 p.m.

ADDRESSES: The workshop will be held at the Sierra Nevada Regional Office, Western Area Power Administration, 114 Parkshore Drive, Folsom, CA 95630-4710.

FOR FURTHER INFORMATION CONTACT: For information about the workshop or about the Sacramento Area Voltage Support EIS, please contact Ms. Loreen McMahon, Environmental Project Manager, Sierra Nevada Customer Service Region, Western Area Power Administration, 114 Parkshore Drive, Folsom, CA 95630-4710, fax (916) 985-1936, e-mail mcmahon@wapa.gov (please include “SVS Comments” in the subject line). For general information on the U.S. Department of Energy's NEPA review procedures or status of a NEPA review, contact Ms. Carol M. Borgstrom, Director, NEPA Policy and Compliance, EH-42, U.S. Department of Energy, 1000 Independence Avenue SW., Washington, DC 20585, telephone (202) 586-4600 or (800) 472-2756.

Dated: March 8, 2001.
Michael S. Hacskaylo,
Administrator.

[FR Doc. 01-6416 Filed 3-14-01; 8:45 am]

BILLING CODE 6450-01-P